DEPARTMENT OF TRANSPORTATION

Federal Aviation Administration

RTCA Special Committee 193/EUROCAE Working Group 44; Terrain and Airport Database

Pursuant to section 10(a)(2) of the Federal Advisory Committee Act (Pub. L. 92-463, 5 U.S.C., Appendix 2), notice is hereby given for a Special Committee 193/EUROCAE Working Group 44 meeting to be held December 4-8, 2000, starting at 9:00 a.m. The meeting will be held at Hilton Melbourne Beach Oceanfront, 3003 North A1A, Indialantic, FL 32903 (just North of Melbourne).

The agenda will include: December 4: Opening Plenary Session: (1) Welcome and Introductory Remarks; (2) Review/Approval of Meeting Agenda; (3) Review Summary of the Previous Meeting; (4) Presentation: “Intermap Technologies;” (5) Presentation: “DEM's and Airport Vector Data;” (6) Presentation/Discussion: “Proposal for Development of Object-Oriented Symbology & Color Renderings for Advanced Cockpit Avionics;” Subgroup 2, Terrain and Obstacle Databases: (a) Review Summary of the Previous Meeting; (b) Review Actions of the Previous Meeting; (c) Review of the Draft Document; (7) Subgroup 3, Airport Databases: (a) Review Summary of the Previous Meeting; (b) Review Actions of the Previous Meeting; (c) Review of the Draft Document; (d) Presentation: “Exemplary Airport Generation and Validation using RTCA SC-193/EUROCAE WG44 SG3 Methodology;” December 5-6: (8) Continue Subgroups 2 and 3 Discussion; December 7: Plenary Session: (9) Continue Subgroups 2 and 3 Discussion; December 8: Closing Plenary Session: (10) Summary of Subgroups 2 and 3; (11) Assign Tasks; (12) Other Business; (13) Date and Location of Next Meeting; (14) Closing.

Attendance is open to the interested public but limited to space availability. With the approval of the chairmen, members of the public may present oral statements at the meeting. Persons wishing to present statements or obtain information should contact the RTCA Secretariat, 1140 Connecticut Avenue, NW., Washington, DC, 20036; (202) 833-9339 (phone); (202) 833-9434 (fax); or http://www.rtca.org (web site). Members of the public may present a written statement to the committee at any time.

Issued in Washington, DC, on November 13, 2000.
Janice L. Peters,
Designated Official.

[FR Doc. 00-29664 Filed 11-17-00; 8:45 am]

BILLING CODE 4910-13-M